DEPARTMENT OF AGRICULTURE

Submission for OMB Review; Comment Request

August 11, 2010.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Rural Housing Service

Title: Real Estate Title Clearance and Loan Closing—7 CFR 1927-B.

OMB Control Number: 0575-0147.

Summary of Collection: Rural Housing Service is a credit agency for the Department of Agriculture. The Agency offers a supervised credit program to build family farms, modest housing, sanitary water and sewer systems, essential community facilities, businesses and industries in rural areas. Section 306 of the Consolidated Farm and Rural Development Act (CONTACT), 7 U.S.C. 1926.a (as amended), authorizes RUS to make loans to public agencies, American Indian Tribes, and non-profit corporations. The loans fund the development of drinking water, wastewater, and solid waste disposal facilities in rural areas with populations of up to 10,000 residents. Section 501 of Title V of the Housing Act of 1949, as amended, provides authorization to extend financial assistance to construct, improve, alter, repair, replace or rehabilitate dwellings and to provide decent, safe and sanitary living conditions in rural areas. The Secretary of Agriculture is authorized to prescribe regulations to ensure that these loans, made with Federal funds, are legally secured.

Need and Use of the Information: The approved attorney/title company (closing agent) and the field office staff collect the required information. Forms and or guidelines are provided to assist in the collection, certification and submission of this information. Most of these forms collect information that is standard in the industry. If the information is collected less frequently, the agency would not obtain the proper security position on the properties being taken as security and would have no evidence that the closing agents and agency meet the requirements of these regulations.

Description of Respondents: Individuals or households; Business or other for-profit, Not-for-profit institutions; Farms.

Number of Respondents: 18,410.

Frequency of Responses: Reporting: On occasion.

Total Burden Hours: 5,395.

Rural Housing Service

Title: Direct Single Family Housing Loan and Grant Program, 7 CFR 3550,

HB-1-3550, HB-2-3550.

OMB Control Number: 0575-0172.

Summary of Collection: The Rural Housing Service (RHS) is a credit agency for rural housing and community development within the Rural Development mission area of the Department of Agriculture. Section 501 of Title V of the Housing Act of 1949, as amended, authorizes the Secretary of Agriculture to administer such programs and to prescribe regulations to ensure that these loans and grants provided with Federal Funds are made to eligible applicants for authorized purposes, and that subsequent servicing and benefits provided to borrowers are consistent with the authorizing statute. RHS offers a supervised credit program to extend financial assistance to construct, improve, alter, repair, replace or rehabilitate dwellings, which will provide modest, decent, safe, and sanitary housing to eligible individuals living in rural areas. To assist individuals in obtaining affordable housing, a borrower's house payment may be subsidized to an interest rate as low as 1%. The information requested by RHS is vital to be able to process applications for RHS assistance and make prudent credit and program decisions. RHS will collect information using several forms.

Need and Use of the Information: RHS will collect information to verify program eligibility requirements; continued eligibility requirements for borrower assistance; servicing of loans; eligibility for special servicing assistance such as: payment subsidies, moratorium (stop) on payments, delinquency workout agreements; liquidation of loans; and, debt settlement. The information is used to ensure that the direct Single Family Housing Programs are administered in a manner consistent with legislative and administrative requirements. Without the information RHS would be unable to determine if a borrower would qualify for services or if assistance has been granted to which the customer would not be eligible under current regulations and statutes.

Description of Respondents: Individuals or households; Business or other for-profit; Not-for-profit institutions.

Number of Respondents: 200,000.

Frequency of Responses: Reporting: On occasion; Annually.

Total Burden Hours: 612,076.

Rural Housing Service

Title: Non-Profit Customer Voluntary Survey on the Equal Treatment Rule.

OMB Control Number: 0575-0192.

Summary of Collection: In accordance with the Government Performance and Results Act and Executive Order 13280, Responsibilities of the Department of Agriculture and the Agency for International Development With Respect to Faith-Based and Community Initiatives, the survey will measure Rural Development's implementation of and compliance with the Equal Treatment Rule (7 CFR part 16) as well as implement action plans and measure improvements. The 14 Rural Development programs under the Faith-Based and Community Initiatives provide insured or guaranteed loans and/or grants to eligible applicants (including non-profit entities) located in rural geographic areas to assist them in providing services to beneficiaries, low-income individuals and communities.

Need and Use of the Information: To facilitate improved participant outcome, and in an effort to continuously improve program services, the survey can measure impediments that applicants may have encountered when they submitted an application. The outcome of the Voluntary Survey on the Equal Treatment Rule will provide the general satisfaction level among non-profit borrowers throughout the nation, highlight areas that need improvement, provide a benchmark for future surveys, and improvement in implementation of and compliance with the Equal Treatment Rule.

Description of Respondents: Not-for-profit institutions.

Number of Respondents: 4,000.

Frequency of Responses: Reporting: One time.

Total Burden Hours: 320.

Charlene Parker,
Departmental Information Collection Clearance Officer.

[FR Doc. 2010-20280 Filed 8-16-10; 8:45 am]

BILLING CODE 3410-XT-P